DEPARTMENT OF COMMERCE

International Trade Administration

[C-475-819]

Certain Pasta from Italy; Rescission of Countervailing Duty Administrative Review; 2018

AGENCY: Enforcement and Compliance, International Trade Administration, Department of Commerce.

SUMMARY: The Department of Commerce (Commerce) is rescinding the administrative review of the countervailing duty (CVD) order on certain pasta from Italy for the period of review (POR) January 1, 2018 through December 31, 2018, based on the timely withdrawal of the requests for review.

DATES: Applicable December 27, 2019.

FOR FURTHER INFORMATION CONTACT: Theodore Pearson, AD/CVD Operations, Office I, Enforcement and Compliance, International Trade Administration, U.S. Department of Commerce, 1401 Constitution Avenue NW, Washington, DC 20230; telephone: (202) 482-2631.

SUPPLEMENTARY INFORMATION:

Background

On July 1, 2019, Commerce published a notice of opportunity to request an administrative review of the CVD order on certain pasta from Italy for the POR January 1, 2018 through December 31, 2018.¹ On July 30 and 31, 2019, Commerce received timely-filed requests from Pastificio Fratelli DeLuca S.r.l. (DeLuca),² Tesa S.r.l. (Tesa),³ and Industria Alimentare Colavita, S.p.A. (Indalco),⁴ for administrative reviews of themselves, in accordance with section 751(a) of the Tariff Act of 1930, as amended (the Act), and 19 CFR 351.213(b). Commerce received no other requests for administrative review.

¹ See Antidumping or Countervailing Duty Order, Finding, or Suspended Investigation; Opportunity to Request Administrative Review, 84 FR 31295 (July 1, 2019).

² See DeLuca's Letter, “Certain Dry Pasta from Italy; C-475-819; Request for Administrative Review (Revised),” dated July 30, 2019.

³ See Tesa's Letter, “Pasta from Italy; Request for Administrative Review,” dated July 31, 2019.

⁴ See Indalco's Letter, “Certain Pasta from Italy: Request for Administrative Review on Behalf of Industria Alimentare Colavita, S.p.A.,” dated July 31, 2019.

On September 9, 2019, pursuant to these requests and in accordance with 19 CFR 351.221(c)(1)(i), Commerce published a notice initiating an administrative review of the CVD order on pasta from Italy.⁵ On November 15, 2019, Indalco withdrew its request for an administrative review.⁶ On November 18, 2019, DeLuca and Tesa withdrew their requests for administrative reviews.⁷

⁵ See Initiation of Antidumping and Countervailing Duty Administrative Reviews, 84 FR 47242 (September 9, 2019).

⁶ See Indalco's Letter, “Certain Pasta From Italy: Withdrawal of Request for CVD Administrative Review of Indalco S.p.A.,” dated November 15, 2019.

⁷ See DeLuca's Letter, “Certain Dry Pasta from Italy; C-475-819; Withdrawal of Request for Review,” dated November 18, 2019; see also Tesa's Letter, “Pasta from Italy: Withdrawal of Request for Administrative Review,” dated November 18, 2019.

Rescission of Review

Pursuant to 19 CFR 351.213(d)(1), Commerce will rescind an administrative review, in whole or in part, if a party that requested a review withdraws the request within 90 days of the publication date of the notice of initiation of the requested review. DeLuca, Indalco and Tesa withdrew their requests within 90 days of the publication date of the notice of initiation. No other parties requested an administrative review of the order. Therefore, in accordance with 19 CFR 351.213(d)(1), we are rescinding this review in its entirety.

Assessment

Commerce intends to instruct U.S. Customs and Border Protection (CBP) to assess countervailing duties on all appropriate entries of pasta from Italy. Countervailing duties shall be assessed at rates equal to the cash deposit of estimated countervailing duties required at the time of entry, or withdrawal from warehouse, for consumption in accordance with 19 CFR 351.212(c)(1)(i). Commerce intends to issue appropriate assessment instructions to CBP 15 days after the date of publication of this notice in the Federal Register.

Notification Regarding Administrative Protective Orders

This notice also serves as a reminder to all parties subject to administrative protective order (APO) of their responsibility concerning the disposition of proprietary information disclosed under APO in accordance with 19 CFR 351.305, which continues to govern business proprietary information. Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: December 19, 2019.
James Maeder,
Deputy Assistant Secretary for Antidumping and Countervailing Duty Operations.

[FR Doc. 2019-27936 Filed 12-26-19; 8:45 am]

BILLING CODE 3510-DS-P